DEPARTMENT OF AGRICULTURE

Submission for OMB Review; Comment Request

The Department of Agriculture will submit the following information collection requirement(s) to OMB for review and approval under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by November 30, 2023. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Stocks Reports—Substantive Change.

OMB Control Number: 0535-0007.

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

The National Agricultural Statistics Service (NASS) is seeking approval to make a substantive change to the Off-farm Grain and Oilseeds Program by adding an Operation Profile survey. The Operation Profiles will have three main functions:

1. Inform the respondent about our data needs so they will have the details to provide storage capacity and the amount of grain stored according to NASS definitions.

2. Document items that the respondent cannot correctly report or estimate for each quarter.

3. Identify respondents who do not store any of the commodities of interest in their facilities.

The substantial change will add a contact to the entire sample over the course of three years (⅓ of the sample per year) and an average of 280 burden hours to the already approved annual total burden hours of 5,062.

Need and Use of the Information: The primary objective of the National Agricultural Statistics Service is to prepare and issue State and national estimates of crop and livestock production, stocks, disposition, and prices. The Stocks Report surveys, provide estimates of stocks of grains, hops, oilseeds, peanuts, potatoes, and rice that are stored off-farm. These off-farm stocks are combined with on-farm stocks to estimate stocks in all positions. The Stocks Reports are a principle economic indicator as defined by OMB. Stocks statistics are used by the U.S. Department of Agriculture to help administer programs; by State agencies to develop, research, and promote the marketing of products; and by producers and buyers to find their best market opportunity(s). The Stocks Reports are instrumental in providing timely, accurate data to help grain market participants. In order to maintain a complete and comprehensive list of operations, NASS needs to conduct an Operation Profile survey annually to add new operations to the survey population. This profile is also used to identify operations that do not meet the criteria to be included in the Off-farm Grain and Oilseeds Survey.

Description of Respondents: Farms and businesses.

Number of Respondents: 8,330.

Frequency of Responses: Reporting: Monthly; Quarterly; Annually.

Total Burden Hours: 5,342.

Levi S. Harrell,
Departmental Information Collection Clearance Officer.

[FR Doc. 2023-23959 Filed 10-30-23; 8:45 am]

BILLING CODE 3410-20-P